COMMISSION ON CIVIL RIGHTS

Sunshine Act Notice

AGENCY: United States Commission on Civil Rights

ACTION: Notice of meeting.

Date and Time: Friday, December 3, 2010; 9:30 a.m. EST.

Place: 624 Ninth Street, NW., Room 540, Washington, DC 20425.

Meeting Agenda

This meeting is open to the public.

I. Approval of Agenda.

II. Program Planning.

• Approval of School Choice, the Blaine Amendments and Anti-Catholicism Briefing Report.

• Approval of Eminent Domain Briefing Concept Paper & Scheduling of Briefing.

• Update on FY 2011 Cy Pres Enforcement Report.

• Update on Status of Briefing on Disparate Impact in School Discipline Policies.

• Update on Sex Discrimination in Liberal Arts College Admissions—Some of the discussion of this agenda item may be held in closed session.

III. State Advisory Committee Issues.

• North Carolina SAC.

• Vermont SAC.

• Wisconsin SAC.

• Update on Status of Remaining SACs to Recharter.

IV. Approval of Minutes of November 19 Meeting.

V. Announcements.

VI. Adjourn.

Contact Person for Further Information: Lenore Ostrowsky, Acting Chief, Public Affairs Unit (202) 376-8591. TDD: (202) 376-8116. Persons with a disability requiring special services, such as an interpreter for the hearing impaired, should contact Pamela Dunston at least seven days prior to the meeting at 202-376-8105. TDD: (202) 376-8116.

Dated: November 22, 2010.
David Blackwood,
General Counsel.

[FR Doc. 2010-29777 Filed 11-22-10; 4:15 pm]

BILLING CODE 6335-01-P